DEPARTMENT OF VETERANS AFFAIRS

38 CFR Part 4

Technical Correction to Combined Ratings Table

AGENCY: Department of Veterans Affairs.

ACTION: Final rule; correcting amendment.

SUMMARY: The Department of Veterans Affairs (VA) published, in the Federal Register of March 18, 1976, a final rule amending its Schedule For Rating Disabilities regulations. The amendment, which was accurately reflected in the Federal Register document, was subsequently misprinted when included in Part 4 of title 38, Code of Federal Regulations. Therefore, VA is correcting this misprint which contained two typographical errors found in Table I of the Combined Ratings Table.

DATES: Effective April 24, 2018.

FOR FURTHER INFORMATION CONTACT: Gabrielle Mancuso, Consultant, Regulations Staff (211D), Compensation Service, Department of Veterans Affairs, 810 Vermont Avenue NW, Washington, DC 20420, (202) 461-9700. (This is not a toll-free telephone number.)

SUPPLEMENTARY INFORMATION: On March 18, 1976, VA published in the Federal Register (41 FR 11293), an amendment to Part 4 of title 38, Code of Federal Regulations, that revised several disabilities, added new ratings codes and criteria, and redesignated the Combined Ratings Table at 38 CFR 4.25 as “Table I.” Although there were no changes made to the combined ratings values found in Table I, the table was misprinted when published in the Code of Federal Regulations. Specifically, two typographical errors were made on row 89 columns 70 and 80. This misprint has continued in both paper and online publications to date.

This document now corrects those typographical errors by removing “87” and adding in its place “97” (row 89 column 70) and removing “38” and adding in its place “98” (row 89 column 80). These errors do not affect any benefits which were previously paid as VA's electronic systems have correctly computed the combined degree of disability.

List of Subjects in 38 CFR Part 4

Administrative practice and procedure, Claims, Disability benefits, Veterans.

Approved: April 19, 2018.
Jeffrey M. Martin,
Impact Analyst, Office of Regulation Policy & Management, Office of the Secretary, Department of Veterans Affairs.

For reasons stated in the preamble, VA amends 38 CFR part 4 by making the following correcting amendments:

PART 4—SCHEDULE FOR RATING DISABILITIES

1. The authority citation for part 4 continues to read as follows:

Authority: 38 U.S.C. 1155, unless otherwise noted.

2. In § 4.25 “Table I-Combined Ratings Table” revise row 89 to read as follows:

§ 4.25 Combined ratings table.

* * * * *

Table I—Combined Ratings Table
[10 combined with 10 is 19]
| 10 | 20 | 30 | 40 | 50 | 60 | 70 | 80 | 90
* * * * * * *
89 | 90 | 91 | 92 | 93 | 95 | 96 | 97 | 98 | 99
* * * * * * *

[FR Doc. 2018-08512 Filed 4-23-18; 8:45 am]

BILLING CODE 8320-01-P